DEPARTMENT OF COMMERCE

International Trade Administration

[A-555-001]

Mattresses From Cambodia: Notice of Court Decision Not in Harmony With the Amended Final Determination of Antidumping Duty Investigation; Notice of Amended Final Determination; Notice of Amended Antidumping Duty Order

AGENCY: Enforcement and Compliance, International Trade Administration, Department of Commerce.

SUMMARY: On May 16, 2024, the U.S. Court of International Trade (CIT) issued its final judgment in Best Mattresses International Company Limited and Rose Lion Furniture International Company Limited v. United States, Consol. Court No. 21-00281, sustaining the U.S. Department of Commerce's (Commerce) remand redetermination pertaining to the less-than-fair-value (LTFV) investigation of mattresses from Cambodia covering the period of investigation January 1, 2019, through December 31, 2019. Commerce is notifying the public that the CIT's final judgment is not in harmony with Commerce's amended final determination, and Commerce is amending the amended final determination with respect to the dumping margins assigned to Best Mattresses International Company Limited (Best Mattresses) and Rose Lion Furniture International Company Limited (Rose Lion) (Best Mattresses/Rose Lion) and all other producers and exporters of subject merchandise.

DATES: Applicable May 26, 2024.

FOR FURTHER INFORMATION CONTACT: Preston Cox, AD/CVD Operations, Office VI, Enforcement and Compliance, International Trade Administration, U.S. Department of Commerce, 1401 Constitution Avenue NW, Washington, DC 20230; telephone: (202) 482-5041.

SUPPLEMENTARY INFORMATION:

Background

On March 25, 2021, Commerce published its final determination in the LTFV investigation of mattresses from Cambodia.¹ After correcting ministerial errors contained the Final Determination, on May 14, 2021, Commerce published the Amended Final Determination and Order.²

¹ See Mattresses from Cambodia: Final Affirmative Determination of Sales at Less Than Fair Value and Final Negative Determination of Critical Circumstances, 86 FR 15894 (March 25, 2021) (Final Determination), and accompanying Issues and Decision Memorandum (IDM).

² See Mattresses from Cambodia, Indonesia, Malaysia, Serbia, Thailand, the Republic of Turkey, and the Socialist Republic of Vietnam: Antidumping Duty Orders and Amended Final Affirmative Antidumping Determination for Cambodia, 86 FR 26460 (May 14, 2021) (Amended Final Determination and Order); see also Memorandum, “Antidumping Duty Investigation of Mattresses from Cambodia: Allegations of Ministerial Errors in Final Determination,” dated April 19, 2021.

Best Mattresses/Rose Lion ³ filed a complaint before the CIT seeking judicial review of Commerce's Amended Final Determination and Order.⁴ On February 17, 2023, the CIT sustained in part, and remanded, in part, Commerce's Amended Final Determination and Order.⁵ Specifically, the CIT remanded Commerce to further explain or reconsider the following: (1) the use of Cambodian Trademap data under the transactions disregarded rule; (2) the inclusion of imports from non-market economy (NME) and export-subsidizing countries in the Cambodian Trademap and six country Global Trade Atlas (GTA) datasets when calculating input cost of production and market price under the transactions disregarded and major input rules; and (3) the conclusion that the financial statements relied on in the Final Determination were complete and publicly available.⁶

³ Commerce determined that Best Mattresses and Rose Lion should be collapsed and treated as a single entity, Best Mattresses/Rose Lion. See Final Determination IDM at 1; see also Memorandum, “Less-Than-Fair-Value Investigation of Mattresses from Cambodia: Affiliation and Collapsing Analysis for Best Mattresses International Company Limited and Rose Lion Furniture International Company Limited,” dated October 27, 2020.

⁴ See Best Mattresses International Company Limited v. United States, 622 F. Supp. 3d 1347 (CIT February 17, 2023) (Remand Order).

⁵ Id., 622 F. Supp. 3d at 1397.

⁶ Id.

In its final results of redetermination pursuant to the Remand Order, issued on July 17, 2023, Commerce reconsidered the three determinations listed above.⁷ In the Remand Redetermination, Commerce: (1) continued to find Cambodia to be the appropriate “market under consideration” in this case; ⁸ (2) continued to use Cambodian Trademap and the six country GTA datasets, but excluded data from NME countries and countries with export subsidies; ⁹ and (3) continued to find that, while the financial statements used in the Final Determination are publicly available, an average of the financial statements on the record of this proceeding constituted the best proxy of constructed value profit and selling expense data.¹⁰ As a result of the above, Commerce recalculated the weighted-average dumping margin for Best Mattresses/Rose Lion, which changed from 52.41 percent to 103.79 percent.¹¹ Consequently, the dumping margin applicable to all other companies changed from 52.41 percent to 103.79 percent.¹² On May 16, 2024, the CIT sustained Commerce's Remand Redetermination.¹³

⁷ See Final Results of Redetermination Pursuant to Court Remand, Best Mattresses International Company Limited and Rose Lion Furniture International Company Limited v. United States, Court No. 21-00281, Slip Op. 23-19 (CIT February 17, 2023), dated July 17, 2023 (Remand Redetermination), available at https://access.trade.gov/resources/remands/23-19.pdf.

⁸ Id. at 5-8.

⁹ Id. at 8-9 and 17-28.

¹⁰ Id. at 9-16 and 29-35.

¹¹ Id. at 36.

¹² Id.

¹³ See Best Mattresses International Company Limited and Rose Lion Furniture International Company Limited v. United States, Consol. Court No. 21-00281, Slip Op. 24-59 (CIT May 16, 2024).

Timken Notice

In its decision in Timken,¹⁴ as clarified by Diamond Sawblades,¹⁵ the U.S. Court of Appeals for the Federal Circuit held that, pursuant to section 516A(c) and (e) the Tariff Act of 1930, as amended (the Act), Commerce must publish a notice of court decision that is not “in harmony” with a Commerce determination and must suspend liquidation of entries pending a “conclusive” court decision. The CIT's May 16, 2024, judgment constitutes a final decision of the CIT that is not in harmony with Commerce's Amended Final Determination and Order. Thus, this notice is published in fulfillment of the publication requirements of Timken.

¹⁴ See Timken Co. v. United States, 893 F.2d 337 (Fed. Cir. 1990) (Timken).

¹⁵ See Diamond Sawblades Manufacturers Coalition v. United States, 626 F.3d 1374 (Fed. Cir. 2010) (Diamond Sawblades).

Amended Final Determination and Order

Because there is now a final court judgment, Commerce is amending the Amended Final Determination and Order to revise the dumping margins assigned to Best Mattresses/Rose Lion and all other producers and exporters of subject merchandise for the period January 1, 2019, through December 31, 2019, as follows:

Exporter/producer | Weighted- average dumping margin (percent)
Best Mattresses International Company Limited/Rose Lion Furniture International Company Limited | 103.79
All Others | 103.79

Cash Deposit Requirements

Because Best Mattresses/Rose Lion does not have a superseding cash deposit rate (i.e., there have been no final results published in a subsequent administrative review of Best Mattresses/Rose Lion) and because of the change to the dumping margin assigned to all other producers and/or exporters of subject merchandise, Commerce will instruct U.S. Customs and Border Protection (CBP) to collect cash deposits at the rates equal to the company-specific and all others estimated weighted-average dumping margins listed in the table above.

Liquidation of Suspended Entries

At this time, Commerce remains enjoined by CIT order from liquidating entries that were produced and/or exported by Best Mattresses/Rose Lion, and were entered, or withdrawn from warehouse, for consumption on and after November 3, 2020, excluding any merchandise entered, or withdrawn from warehouse, for consumption, on May 2, 2021, through May 13, 2021. Liquidation of these entries will remain enjoined pursuant to the terms of the injunction during the pendency of any appeals process. In the event the CIT's ruling is not appealed, or, if appealed, upheld by a final and conclusive court decision, Commerce intends to instruct CBP to assess antidumping duties on unliquidated entries of subject merchandise produced and/or exported by Best Mattresses/Rose Lion in accordance with 19 CFR 351.212(b). We will instruct CBP to assess antidumping duties on all appropriate entries when the importer-specific ad valorem assessment rate is not zero or de minimis. Where an importer-specific ad valorem assessment rate is zero or de minimis,¹⁶ we will instruct CBP to liquidate the appropriate entries without regard to antidumping duties.

¹⁶ See 19 CFR 351.106(c)(2).

Notification to Interested Parties

This notice is issued and published in accordance with sections 516A(c) and (e) and 777(i)(1) of the Act.

Dated: June 7, 2024.
Ryan Majerus,
Deputy Assistant Secretary for Policy and Negotiations, performing the non-exclusive functions and duties of the Assistant Secretary for Enforcement and Compliance.

[FR Doc. 2024-13038 Filed 6-12-24; 8:45 am]

BILLING CODE 3510-DS-P